DEPARTMENT OF HOUSING AND URBAN DEVELOPMENT

[Docket No. FR-5997-N-13]

Notice of Proposed Information Collection: Notice on Equal Access Regardless of Sexual Orientation, Gender Identity, or Marital Status for HUD's Community Planning and Development Programs, Withdrawal

AGENCY: Office of Community Planning and Development, HUD.

ACTION: Notice.

SUMMARY: HUD announces the withdrawal of this proposed information collection published on September 21, 2016, for 60-days of public comment, and on January 24, 2017, for 30-days of public comment, to provide HUD with the opportunity to further review the need for the collection.

DATES: Effective: March 10, 2017.

FOR FURTHER INFORMATION CONTACT: Norm Suchar, Director, Office of Special Needs Assistance Programs, Office of Community Planning and Development, Department of Housing and Urban Development, 451 7th Street SW., Washington, DC 20410-7000; telephone number 202-708-4300 (this is not a toll-free number). Persons who are deaf or hard of hearing or have speech impairments can access this number via TTY by calling the toll-free Federal Relay Service at 800-877-8339.

SUPPLEMENTARY INFORMATION: Pursuant to the Paperwork Reduction Act of 1995 (44 U.S.C. 3501-3521), HUD published two Federal Register notices that solicited public comment on an information collection pertaining to “Notice on Equal Access Regardless of Sexual Orientation, Gender Identity, or Marital Status for HUD's Community Planning and Development Programs.” The first notice was published on September 20, 2016, at 81 FR 64930, and solicited public comments for a period of 60-days. The second notice was published on January 24, 2017, at 82 FR 8198, and solicited comments for 30-days. (In addition, HUD published a correction to the January 24, 2017, notice on February 7, 2017, at 82 FR 9592.)

This information collection is being withdrawn immediately while HUD further considers the need for the information collection. HUD will provide for public comment, as required by the Paperwork Reduction Act of 1995 should HUD decides to seek approval from the Office of Management and Budget for this information collection.

HUD also takes this opportunity to correct an error contained in the “BACKGROUND” sections of both the January 24, 2017, notice and the February 7, 2017, correction. This section of the notices incorrectly stated that that the notices were being published concurrently with HUD's final rule entitled “Equal Access in Accordance with an Individual's Gender Identity in Community Planning and Development Programs.” The final rule was actually published on September 21, 2016.

Date: March 7, 2017.
Ann Marie Oliva,
Deputy Assistant Secretary for Special Needs Programs.

[FR Doc. 2017-04787 Filed 3-9-17; 8:45 am]

BILLING CODE 4210-67-P